DEPARTMENT OF JUSTICE

Notice of Lodging of Consent Decree Under the Resource Conservation and Recovery Act (“RCRA”)

Consistent with Departmental policy, 28 CFR 50.7, notice is hereby given that on June 23, 2004, a proposed Consent Decree in United States v. Flura Corporation, et al. Civil Action No. 2:04-CV-00200 was lodged with the United States District Court for the Eastern District of Tennessee.

In this action the United States sought injunctive relief and penalties against Flura Corporation (“Flura”) and Edward Tyczkowski pursuant to the Solid Waste Disposal Act, as amended by the Resource Conservation and Recovery Act (“RCRA”) Section 7003. The United States sought an injunction requiring Flura and Edward Tyczkowski to comply with Administrative Orders issued by EPA on June 17, 1999 and March 30, 2000, in order to abate an imminent and substantial endangerment to public health, welfare, and the environment connected with Flura's facility at 610 Rock Hill Road, Newport, Cocke County, Tennessee. The United States also sought civil penalties for Defendant's violations of the Administrative Orders pursuant to Section 7003(b) of RCRA, 42 U.S.C. 6973(b).

Due to the insolvency of Flura, and the confirmed inability to pay a penalty of Edward Tyczkowski, the proposed Consent Decree, which settles the liability of Flura and Mr. Tyczkowski for violations alleged in the Complaint, does not require the payment of any penalty. The proposed Consent Decree requires continued compliance with the EPA Administrative Orders and injunctive relief as to Edward Tyczkowski's handling, storage, treatment, transportation or disposal of solid or hazardous waste.

The Department of Justice will receive for a period of thirty (30) days from the date of this publication comments relating to the proposed Consent Decree. Commenters may request an opportunity for a public meeting in the affected area, in accordance with Section 7003(d) of RCRA, 42 U.S.C. 6973(d). Comments should be addressed to the Assistant Attorney General, Environmental and Natural Resources Division, P.O. Box 7611, U.S. Department of Justice, Washington, D.C. 20044-7611, and should refer to United States v. Flura Corporation, et al., D.J. Ref. 90-7-1-06889.

The proposed Consent Decree may be examined at the Office of the United States Attorney, 800 Market Street, Suite 211 Knoxville, TN 37902, and at U.S. EPA Region IV, 61 Forsyth Street, Atlanta, Georgia, 30303. During the public comment period the proposed Consent Decree may also be examined on the following Department of Justice Web site http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $7.00 (25 cents per page reproduction cost) payable to the U.S. Treasury.

Ellen Mahan,
Assistant Section Chief Environmental Enforcement Section Environment and Natural Resources Division

[FR Doc. 04-16001 Filed 7-14-04; 8:45 am]

BILLING CODE 4410-15-M